DEPARTMENT OF EDUCATION

34 CFR Part 637

Minority Science and Engineering Improvement Program

AGENCY: Department of Education.

ACTION: Final regulations.

SUMMARY: We amend the regulations governing the Minority Science and Engineering Improvement Program (MSEIP) to conform them to statutory changes made to this program by the Higher Education Amendments of 1998 (1998 Amendments). These revisions make the regulations consistent with the applicable statutory provisions.

EFFECTIVE DATES: These regulations are effective March 16, 2000.

FOR FURTHER INFORMATION CONTACT: Deborah Newkirk, U.S. Department of Education, 1990 K Street, NW, 6th Floor, Washington, DC 20006-8512. Telephone: (202) 502-7591 or e-mail address deborah_newkirk@ed.gov. If you use a telecommunication device for the deaf (TDD), you may call the Federal Information Relay Service (FIRS) at 1-800-877-8339.

Individuals with disabilities may obtain this document in an alternate format (e.g., Braille, large print, audio tape or computer diskette) on request to the contact person listed in the preceding paragraph.

SUPPLEMENTARY INFORMATION: The MSEIP is now authorized under Title III, Part E of the Higher Education Act of 1965, as amended (HEA). However, prior to the 1998 Amendments (Pub. L. 105-244), it was authorized under Title X of the HEA.

The 1998 Amendments made several other changes to the HEA with regard to MSEIP that require conforming changes to the program regulations. These statutory amendments incorporated in the regulations in part 637 include:

• Requiring two-year minority institutions to partner with four-year institutions;

• Expanding the definition eligible institutions; and

• Including behavioral sciences in the definition of science programs.

Waiver of Proposed Rulemaking

It is the practice of the Secretary to offer interested parties the opportunity to comment on proposed regulations in accordance with the Administrative Procedure Act (5 U.S.C. 553). However, since these changes merely incorporate statutory amendments into the regulations and do not implement substantive policy, public comment could have no effect. Therefore, the Secretary has determined pursuant to 5 U.S.C. 553(b)(B) that public comment on the regulations is unnecessary and contrary to the public interest.

Regulatory Flexibility Act Certification

The Secretary certifies that these regulations would not have a significant economic impact on a substantial number of small entities. The small entities affected would be small minority institutions of higher education. These regulations would not have a significant economic impact on any of the institutions affected because they do not make any substantive changes to the existing regulations but only conform them to current statutory provisions.

Paperwork Reduction Act of 1995

These regulations do not contain any information collection requirements.

Intergovernmental Review

This program is subject to the requirements of Executive Order 12372 and the regulations in 34 CFR part 79. The objective of the Executive order is to foster an intergovernmental partnership and a strengthened federalism by relying on processes developed by State and local government for coordination and review of proposed Federal financial assistance.

In accordance with the order, we intend this document to provide early notification of the Department's specific plans and actions for this program.

Assessment of Education Impact

Based on our own review, we have determined that these final regulations do not require transmission of information that any other agency or authority of the United States gathers or makes available.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number 84.120A)

List of Subjects in 34 CFR Part 637

Colleges and universities, Grant programs-education, Reporting and recordkeeping requirements.

Dated: February 8, 2000.
A. Lee Fritschler,
Assistant Secretary for Postsecondary Education.

For the reasons discussed in the preamble, the Secretary amends Title 34 of the Code of Federal regulations by revising part 637 as follows:

1. The title of Part 637 is revised to read as follows:

PART 637—MINORITY SCIENCE AND ENGINEERING IMPROVEMENT PROGRAM

2. The authority citation for part 637 is revised to read as follows:

Authority: 20 U.S.C. 1067-1067c, 1067g-1067k, 1068, and 1068b, unless otherwise noted.

3. Section 637.1 is revised to read as follows:

§ 637.1 What is the Minority Science and Engineering Improvement Program (MSEIP)?

The Minority Science and Engineering Improvement Program (MSEIP) is designed to effect long-range improvement in science and engineering education at predominantly minority institutions, and to increase the flow of underrepresented ethnic minorities, particularly minority women, into scientific and technological careers.

(Authority: 20 U.S.C. 1067-1067c, 1067g-1067k, 1068, and 1068b, unless otherwise noted)

4. Section 637.2 is revised to read as follows:

§ 637.2 Who is eligible to receive a grant?

The following are eligible to receive a grant under this part:

(a) Public and private nonprofit institutions of higher education that—

(1) Award baccalaureate degrees; and

(2) Qualify as minority institutions as defined in § 637.4.

(b) Public or private nonprofit institutions of higher education that—

(1) Award associate degrees;

(2) Qualify as minority institutions as defined in § 637.4;

(3) Have a curriculum that includes science or engineering subjects; and

(4) Enter into a partnership with public or private nonprofit institutions of higher education that award baccalaureate degrees in science and engineering.

(c) Nonprofit science-oriented organizations, professional scientific societies, and institutions of higher education that award baccalaureate degrees that—

(1) Provide a needed service to a group of minority institutions; or

(2) Provide in-service training to project directors, scientists, and engineers from minority institutions; or

(d) A consortia of organizations, that provide needed services to one or more minority institutions. The consortia membership may include—

(1) Institutions of higher education which have a curriculum in science or engineering;

(2) Institutions of higher education that have a graduate or professional program in science or engineering;

(3) Research laboratories of, or under the contract with, the Department of Energy;

(4) Private organizations that have science or engineering facilities; or

(5) Quasi-governmental entities that have a significant scientific or engineering mission.

(Authority: 20 U.S.C. 1067g)

5. Section 637.3 is amended by revising the authority citation to read as set forth below; and by adding “and Engineering” after the word “Science” in the heading and undesignated introductory text.

§ 637.3 What regulations apply to the Minority Science and Engineering Improvement Program?

* * * * *

(Authority: 20 U.S.C. 1067-1067c, 1067g-1067k, 1068, and 1068b, unless otherwise noted)

6. Section 637.4 is amended by revising the authority citation to read as set forth below; by adding “and Engineering” after the word “Science” in the heading; and by adding the word “behavioral” after “physical,” in the definition of the term “Science” in paragraph (b).

§ 637.4 What definitions apply to the Minority Science and Engineering Improvement Program?

* * * * *

(Authority: 20 U.S.C. 1067-1067c, 1067g-1067k, 1068, and 1068b, unless otherwise noted)

§§ 637.11-637.15, 637.31, 637.32, 637.41 [Amended]

7. The authority citations for §§ 637.11-637.15, 637.31, 637.32, and 637.41 are amended to read as follows:

(Authority: 20 U.S.C. 1067-1067c, 1067g-1067k, 1068, and 1068b, unless otherwise noted)

[FR Doc. 00-3329 Filed 2-14-00; 8:45 am]

BILLING CODE 4000-01-P